DEPARTMENT OF LABOR

Employment and Training Administration

M. Fine & Sons Manufacturing Co., Inc., Greenhill Distribution Center, Killen, AL; Notice of Termination of Investigation

Pursuant to Section 221 of the Trade Act of 1974, an investigation was initiated on June 25, 2001, in response to a worker petition which was filed on behalf of workers at M. Fine & Sons Manufacturing Co., Greenhill Distribution Center, Killen, Alabama.

All workers of the subject firm are covered under an existing certification under TA-W-39,286B. Consequently, further investigation in this case would serve no purpose, and the investigation has been terminated.

Signed at Washington, DC, this 23rd day of July 2001.
Linda G. Poole,
Certifying Officer, Division of Trade Adjustment Assistance.

[FR Doc. 01-19607 Filed 8-3-01; 8:45 am]

BILLING CODE 4510-30—M